DEPARTMENT OF TRANSPORTATION

Federal Motor Carrier Safety Administration

[Docket No. FMCSA-2024-0125]

Commercial Driver's License; 3 North LLC; Application for Exemption

AGENCY: Federal Motor Carrier Safety Administration (FMCSA), Department of Transportation (DOT).

ACTION: Notice, extension of comment period.

SUMMARY: FMCSA extends the comment period for its June 11, 2024, notice requesting public comment on 3 North LLC's application for a 5-year exemption to enable 3 of its commercial driver's license (CDL) holders under the age 21, with the requisite “K” restriction for intrastate-only operations, to drive commercial motor vehicles (CMV) in intrastate operations in a State other than their State of domicile. FMCSA extends the comment period until July 25, 2024, because the application was not available for public review.

DATES: The comment period for the request for information published on June 11, 2024, at 89 FR 49623, is extended. Comments will be accepted on or before July 25, 2024.

ADDRESSES: You may submit comments identified by Federal Docket Management System Number FMCSA-2024-0125 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, between 9 a.m. and 5 p.m. E.T., Monday through Friday, except Federal holidays.

• Fax: (202) 493-2251.

Each submission must include the Agency name and the docket number (FMCSA-2024-0125) for this notice. Note that DOT posts all comments received without change to www.regulations.gov, including any personal information included in a comment. Please see the Privacy Act heading below.

Docket: If you do not have access to the internet, you may view the docket by visiting Docket Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, including any personal information the commenter provides, to www.regulations.gov, as described in the system of records notice DOT/ALL-14 FDMS, which can be reviewed at https://www.transportation.gov/privacy. The comments are posted without edit and are searchable by the name of the submitter.

FOR FURTHER INFORMATION CONTACT: Ms. Bernadette Walker, Driver, and Carrier Operations Division; Office of Carrier, Driver and Vehicle Safety Standards, FMCSA; (202) 385-2415; bernadette.walker@dot.gov. If you have questions about viewing or submitting material to the docket, contact Dockets Operations at (202) 366-9826.

SUPPLEMENTARY INFORMATION:

I. Public Participation and Request for Comments

FMCSA encourages you to participate by submitting comments and related materials.

Submitting Comments

If you submit a comment, please include the docket number for this notice (FMCSA-2024-0125), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to www.regulations.gov, enter the docket number “FMCSA-2024-0125” in the keyword box, and click “Search.” Next, sort the results by “Posted (Newer-Older),” choose the first notice listed, click the “Comment” button, and type your comment into the text box on the following screen. Choose whether you are submitting your comment as an individual or on behalf of a third party and then submit. If you submit your comments by mail or hand delivery, submit them in an unbound format, no larger than 8½ by 11 inches, suitable for copying and electronic filing.

II. Background

The June 11, 2024, notice (89 FR 49263) requested public comment on 3 North LLC's application for a 5-year exemption to enable 3 of its CDL holders under the age 21, with the requisite “K” restriction for intrastate-only operations, to drive CMVs in intrastate operations in a State other than their State of domicile.

The comment period was set to expire on July 11. FMCSA extends the comment period until July 25, 2024, because the application was not available for public review. The application was placed in the docket for this notice on June 24, 2024.

Larry W. Minor,
Associate Administrator for Policy.

[FR Doc. 2024-14992 Filed 7-8-24; 8:45 am]

BILLING CODE 4910-EX-P